DEPARTMENT OF ENERGY

Federal Energy Regulatory Commission

[Docket No. AD14-1-000]

Zero Rate Reactive Power Rate Schedules; Notice of Staff Workshop

This notice establishes the location and date for the workshop directed by the Commission in Chehalis Power Generating, L.P., Docket No. ER05-1056-007 ¹ and announced via notice in this proceeding on October 17, 2013. The workshop is intended to explore the mechanics of public utilities filing reactive power rate schedules for which there is no compensation. The workshop will be held on December 11, 2013 from 1:30 p.m. to 4 p.m. at the Federal Energy Regulatory Commission, 888 First Street NE., Washington, DC 20426. The workshop will be led by Commission staff. A subsequent notice detailing the topics to be discussed will be issued in advance of the workshop.

¹ Chehalis Power Generating, L.P., 145 FERC ¶ 61,052 (2013).

The workshop is open to the public and there is no fee to attend. Although there is no requirement to register for the workshop, those attending are encouraged to pre-register by December 6, 2013 by filling out the on-line registration form located at: https://www.ferc.gov/whats-new/registration/zero-rate-12-11-13-form.asp.

The workshop will not be transcribed. However, there will be a free webcast of the workshop. The webcast will allow persons to listen to the workshop, but not participate. Anyone with Internet access who wants to listen can do so by navigating to the Calendar of Events at www.ferc.gov and locating the workshop in the Calendar. The Commission Web site's link to the workshop will contain a link to the webcast. The Capitol Connection provides technical support for the webcast. If you have questions, visit www.CapitolConnection.org or call 703-992-3100.²

² The webcast will continue to be available on the Calendar of Events on the Commission's Web site www.ferc.gov for three months after the workshop.

FERC conferences are accessible under section 508 of the Rehabilitation Act of 1973. For accessibility accommodations please send an email to accessibility@ferc.gov or call toll free 1-866-208-3372 (voice) or 202-208-8659 (TTY), or send a fax to 202-208-2106 with the required accommodations.

For more information about this conference, please contact: Sarah McKinley, Office of External Affairs, Federal Energy Regulatory Commission, 888 First Street NE., Washington, DC 20426, (202) 502-8368, sarah.mckinley@ferc.gov.

Dated: November 26, 2013.
Kimberly D. Bose,
Secretary.

[FR Doc. 2013-28895 Filed 12-2-13; 8:45 am]

BILLING CODE 6717-01-P